DEPARTMENT OF LABOR

Employment and Training Administration

[TA-W-65,169]

Lyon Workerspace Products, LLC, Montgomery, IL; Notice of Termination of Investigation

Pursuant to Section 221 of the Trade Act of 1974, as amended, an investigation was initiated on February 9, 2009 in response to a petition filed by an official of the Illinois Department of Employment Security on behalf of workers at Lyon Workerspace Products, LLC, Montgomery, Illinois.

The petitioner requested that the petition be withdrawn. Consequently, the investigation has been terminated.

Signed at Washington, DC, this 17th day of March 2009.
Richard Church,
Certifying Officer, Division of Trade Adjustment Assistance.

[FR Doc. E9-6528 Filed 3-24-09; 8:45 am]

BILLING CODE 4510-FN-P